SECURITIES AND EXCHANGE COMMISSION

[Release No. 34-65358; File No. SR-FINRA-2011-045]

Self-Regulatory Organizations; Financial Industry Regulatory Authority, Inc.; Notice of Filing and Immediate Effectiveness of Proposed Rule Change To Revise the Series 7 Examination Program

September 20, 2011.

Correction

In notice document 2011-24710 appearing on pages 59751-59754 in the issue of September 27, 2011, make the following correction:

On page 59751, in the third column, the Release No. in the heading is corrected to read as set forth above.

[FR Doc. C1-2011-24710 Filed 10-17-11; 8:45 am]

BILLING CODE 1505-01-D